DEPARTMENT OF TRANSPORTATION

Federal Transit Administration

[FTA Docket No. FTA-00-7296]

Notice of Request for the Extension of Currently Approved Information Collection

AGENCY: Federal Transit Administration, DOT.

ACTION: Notice of request for comments.

SUMMARY: In accordance with the Paperwork Reduction Act of 1995, this notice announces the intention of the Federal Transit Administration (FTA) to request the Office of Management and Budget (OMB) to extend the following currently approved information collection: Prevention of Prohibited Drug Use in Transit Operations.

DATES: Comments must be submitted before July 3, 2000.

ADDRESSES: All written comments must refer to the docket number that appears at the top of this document and be submitted to the United States Department of Transportation, Central Dockets Office, PL-401, 400 Seventh Street, S.W., Washington, D.C. 20590. All comments received will be available for examination at the above address from 10:00 a.m. to 5:00 p.m., e.t., Monday through Friday, except federal holidays. Those desiring notification of receipt of comments must include a self-addressed, stamped postcard/envelope.

FOR FURTHER INFORMATION CONTACT: Prevention of Prohibited Drug Use in Transit Operations—Mr. Mark Snider, Office of Program Management, (202) 366-1080.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: Prevention of Prohibited Drug Use in Transit Operations (OMB Number: 2132-0556)

Background: The Omnibus Transportation Employee Testing Act of 1991 (Pub. L. 102-143, October 28, 1991, now codified in relevant part at 49 U.S.C. Section 5331) requires any recipient of federal financial assistance under 49 U.S.C. Sections 5309, 5307, or 5311 or under 23 U.S.C. Section 103(e) (4) to establish a program designed to help prevent accidents and injuries resulting from the misuse of drugs and alcohol by employees who perform safety-sensitive functions. FTA's regulation, 49 CFR Part 653, “Prevention of Prohibited Drug Use in Transit Operations,” effective March 17, 1994, requires recipients to submit to FTA annual reports containing data which summarize information concerning the recipients' drug testing program, such as the number and type of tests given, number of positive test results, and the kinds of safety-sensitive functions the employees perform. FTA uses these data to ensure compliance with the rule, to assess the misuse of drugs in the transit industry, and to set the random testing rate. The data will also be used to assess the effectiveness of the rule in reducing the misuse of drugs among safety-sensitive transit employees and making transit safer for the public.

Respondents: State and local government, business or other for-profit institutions, non-profit institutions, and small business organizations.

Estimated Annual Burden on Respondents: 14.6 hours for each of the 2,317 respondents.

Estimated Total Annual Burden: 33,883 hours.

Frequency: Annual.

Issued: April 26, 2000.
Dorrie Y. Aldrich,
Associate Administrator for Administration.

[FR Doc. 00-10919 Filed 5-1-00; 8:45 am]

BILLING CODE 4910-57-P